POSTAL REGULATORY COMMISSION

[Docket Nos. RM2024-9 and N2024-1; Order Nos. 7793 and 7794]

RIN 3211-AA39

Service Performance Measurement Systems for Market Dominant Products

AGENCY: Postal Regulatory Commission.

ACTION: Notice.

SUMMARY: The Commission is acknowledging that the Postal Service's proposed revisions to its Service Performance Measurement (SPM) Plan for Market Dominant products from Docket No. N2024-1 will be considered as part of Docket No. RM2024-9. This document invites public comments and takes other administrative steps.

DATES: Comments are due: November 20, 2024.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: Notices filed in Docket No. RM2024-9 (Order No. 7793) and Docket No. N2024-1 (Order No. 7794) state that certain proposed revisions to the Postal Service's Service Performance Measurement (SPM) Plan and a related SPM design document, which were filed by the Postal Service pursuant to 39 CFR 3055.5 in pending Docket No. N2024-1, will be considered by the Commission in pending Docket No. RM2024-9. Comments on the proposed revisions should be filed in Docket No. RM2024-9 by November 20, 2024. Any further proposed revisions to the SPM Plan or the SPM design documentation related to the changes in service proposed by the Postal Service in Docket No. N2024-1 should be filed in both Docket No. N2024-1 and Docket No. RM2024-9.

By the Commission.
Jennie L. Jbara,
Primary Certifying Official.

[FR Doc. 2024-25152 Filed 10-29-24; 8:45 am]

BILLING CODE 7710-FW-P